DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 3, 2006.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, VA 22203; fax 703/358-2281.

FOR FURTHER INFORMATION CONTACT: Division of Management Authority, telephone 703/358-2104.

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: San Diego Zoo, San Diego, CA, PRT-117195

The applicant requests a permit to export blood samples taken from live captive born addax antelope (Addax nasomaculatus) to the Fiedrich Loeffler Institut in Germany for the purpose of enhancement of the survival of the species/scientific research.

Applicant: Exotic Feline Breeding Compound, Inc., Rosamond, CA, PRT-116625

The applicant requests a permit to export one male and one female captive-born Amur leopards (Panthera pardus orientalis) to Jardin Zoologique de Quebex, Quebec, Canada, for the purpose of enhancement of the species through captive propagation.

Applicant: Mountain Gorilla Veterinary Project, Inc., Baltimore, MD, PRT-117181

The applicant requests a permit to import biological samples from both wild and captive gorillas (Gorilla gorilla), chimpanzee (Pan troglodytes), bonobo (Pan paniscus), L'Hoest's monkey (Ceropithecus l'hoesti) and agile mangabey (Cercocebus galeritus) from central Africa for the purpose of enhancement of the survival of the species through health screening and treatment for a variety of potential disease and nutrition problems. This notification covers activities to be conducted by the applicant over a five-year period.

Applicant: Brian D. Dailey, Arlington, VA, PRT-114025

The applicant requests a permit to import the sport-hunted trophy of one male bontebok (Damaliscus pygargus pygargus) culled from a captive herd maintained under the management program of the Republic of South Africa, for the purpose of enhancement of the survival of the species.

Applicant: George T. Markou, Landing, NJ, PRT-118984

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The application was submitted to satisfy requirements of the Marine Mammal Protection Act of 1972, as amended (16 U.S.C. 1361 et seq.), and the regulations governing marine mammals (50 CFR part 18). Written data, comments, or requests for copies of the complete application or requests for a public hearing on this application should be submitted to the Director (address above). Anyone requesting a hearing should give specific reasons why a hearing would be appropriate. The holding of such a hearing is at the discretion of the Director.

Applicant: Luis A. Rivera, Guaynabo, PR, PRT-107151

The applicant requests a permit to import a polar bear (Ursus maritimus) sport hunted from the Lancaster Sound polar bear population in Canada for personal, noncommercial use.

Dated: February 17, 2006.
Michael L. Carpenter,
Senior Permit Biologist, Branch of Permits, Division of Management Authority.

[FR Doc. E6-2916 Filed 3-1-06; 8:45 am]

BILLING CODE 4310-55-P